DEPARTMENT OF ENERGY

Federal Energy Regulatory Commission

[Docket Nos. CP17-26-000; CP15-499-000; CP15-499-001]

Pomelo Connector, LLC, Texas Eastern Transmission, LP; Notice of Schedule for Environmental Review of the Pomelo Connector Pipeline and South Texas Expansion Projects

On May 22, 2015 and December 30, 2016 Texas Eastern Transmission, LP (Texas Eastern) filed an application and supplements/amendments in Docket No. CP15-499-000/CP15-499-001 and Pomelo Connector, LLC (Pomelo) filed an application on December 22, 2016 in Docket No. CP17-26-000 requesting a Certificate of Public Convenience and Necessity pursuant to Section 7(c) of the Natural Gas Act to abandon, construct, modify, and operate gas pipeline facilities in Texas. Pomelo's project known as the Pomelo Connector Pipeline Project (Pomelo Connector Pipeline) would provide up to 400,000 dekatherms per day (Dth/d) of firm transportation service from an interconnection with Texas Eastern at the proposed Pomelo Petronila Compressor Station in Nueces County, Texas, to the Nueces Header pipeline system. Texas Eastern's project, known as the South Texas Expansion Project (STEP), would provide approximately 396,000 Dth/d of firm natural gas transportation service to an interconnection with the Nueces Header. Collectively, the STEP and Pomelo Connector Pipeline projects are referred to as the Projects.

On June 5, 2015, and January 4, 2017 the Federal Energy Regulatory Commission (Commission or FERC) issued its Notice of Applications for the Projects. Among other things, that notice alerted agencies issuing federal authorizations of the requirement to complete all necessary reviews and to reach a final decision on a request for a federal authorization within 90 days of the date of issuance of the Commission staff's Environmental Assessment (EA) for the Projects. This instant notice identifies the FERC staff's planned schedule for the completion of the EA for the Projects.

Schedule for Environmental Review

Issuance of EA—September 18, 2017

90-day Federal Authorization Decision Deadline—December 17, 2017

If a schedule change becomes necessary, additional notice will be provided so that the relevant agencies are kept informed of the Project's progress.

Project Description

Pomelo Connector Pipeline consists of construction and operation of approximately 14 miles of 30-inch-diameter pipeline, a new 5,000 horsepower (hp) compressor station, approximately 0.2 mile of new 30-inch-diameter pipeline, and associated aboveground facilities in Nueces County, Texas. Pomelo would engage in certain construction, operation, maintenance, and abandonment activities under blanket construction certificate authorization, and abandon all of the capacity of the Pomelo Connector Pipeline upon the in-service date by lease to Texas Eastern. STEP consists of construction and operation of a new 8,400 hp gas turbine unit in Nueces County, Texas; piping modifications at its existing Angleton Station property in Brazoria County, Texas; a new 8,400 hp gas turbine unit at its existing Blessing Compressor Station in Matagorda County, Texas; clean burn emission work and piping modifications at its existing Mont Belvieu Compressor Station in Chambers County, Texas; and piping modifications at its existing Vidor Compressor Station in Orange County, Texas.

Background

On April 6, 2017, the Commission issued a Notice of Intent to Prepare an Environmental Assessment for the Proposed Projects and Request for Comments on Environmental Issues (NOI). The NOI was sent to affected landowners; Federal, state, and local government agencies; elected officials; environmental and public interest groups; Native American tribes; other interested parties; and local libraries and newspapers. In response to the NOI, the Commission received a total of five comment letters from the following: The Texas Parks and Wildlife Department, Union Pacific Railroad, Gary Pyraon—an adjacent landowner to the proposed Petronila Compressor Station site, John Young—an individual, and the Teamsters National Pipeline Labor Management Cooperation Trust. The comments addressed related and non-jurisdictional facilities, air quality/greenhouse gas emissions, alternatives, biological resources, migratory birds, habitat and wildlife, water resources, hazards/safety concerns, stormwater, and general support for the Projects.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and Docket Number excluding the last three digits (i.e., CP17-26 and CP15-499), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: August 17, 2017.
Nathaniel J. Davis, Sr.,
Deputy Secretary.

[FR Doc. 2017-17847 Filed 8-22-17; 8:45 am]

BILLING CODE 6717-01-P